DEPARTMENT OF COMMERCE

National Oceanic and Atmospheric Administration

RIN 0648-XD152

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council's Summer Flounder, Scup, and Black Sea Bass Advisory Panel and the Mackerel, Squid, and Butterfish Advisory Panel are meeting to provide input to the Council on potential options to modify the Scup Gear Restricted Areas.

DATES: The meeting will be held on Tuesday, March 18, 2014, from 1 p.m. until 4 p.m.

ADDRESSES: The meeting will be held via webinar with a listening station also available at the Council address below. Webinar link: http://mafmc.adobeconnect.com/scupgras/

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The Mid-Atlantic Fishery Management Council is considering modification to the Scup Gear Restricted Areas through Framework 8 to the Summer Flounder, Scup, and Black Sea Bass Fishery Management Plan. This meeting will provide the Council with input on specific alternatives that could be included in this Framework action to modify these gear restricted areas.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: February 21, 2014.
Tracey L. Thompson,
Acting Deputy Director, Office of Sustainable Fisheries, National Marine Fisheries Service.

[FR Doc. 2014-04185 Filed 2-25-14; 8:45 am]

BILLING CODE 3510-22-P